DEPARTMENT OF HOMELAND SECURITY

Coast Guard

[Docket No. USCG-2010-0656]

Houston/Galveston Navigation Safety Advisory Committee

AGENCY: Coast Guard, DHS.

ACTION: Notice of meetings.

SUMMARY: The Houston/Galveston Navigation Safety Advisory Committee (HOGANSAC) and its working groups will meet in Houston, Texas, to discuss waterway improvements, aids to navigation, area projects impacting safety on the Houston Ship Channel, and various other navigation safety matters in the Galveston Bay area. All meetings will be open to the public.

DATES: The Committee will meet on September 23, 2010, from 9 a.m. to noon. The Committee's working groups will meet on September 9, 2010, from 9 a.m. to noon. These meetings may close early if all business is finished. Written material and requests to make oral presentations should reach the Coast Guard on or before September 8, 2010. Requests to have a copy of your materials distributed to each member of the Committee or working group should reach the Coast Guard on or before September 8, 2010.

ADDRESSES: The Committee and working groups will meet at the West Gulf Maritime Association (WGMA) offices, 1717 East Loop, Suite 200, Houston, TX 77029, telephone (713) 678-7655.

Send written material and requests to make oral presentations to Commander Michael Zidik, Alternate Designated Federal Officer (ADFO) of HOGANSAC, CG SEC Houston-Galveston, 9640 Clinton Drive, Houston, TX 77029. This notice and documents identified in the SUPPLEMENTARY INFORMATION section as being available in the docket may be viewed in our online docket, USCG-2010-0656, at http://www.regulations.gov.

FOR FURTHER INFORMATION CONTACT: If you have questions concerning the meeting, please call or e-mail Lieutenant Junior Grade Margaret Brown, Waterways Management Branch, Coast Guard; telephone 713-678-9001, e-mail Margaret.A.Brown@uscg.mil. If you have questions on viewing or submitting material to the docket, call Renee V. Wright, Program Manager, Docket Operations, telephone 202-366-9826.

SUPPLEMENTARY INFORMATION: Notice of these meetings is given pursuant to the Federal Advisory Committee Act (FACA), 5 U.S.C. App. (Pub. L. 92-463). This Committee is established in accordance with and operates under the provisions of the FACA. It was established under the Coast Guard Authorization Act of 1991 (Pub. L. 102-241), as amended. Pursuant to that authority, the Committee provides advice and recommendations on matters relating to safe transit of vessels and products through Galveston Bay, and to and from the Ports of Galveston, Houston, Texas City, and Galveston Bay.

Agenda of the Committee Meeting

The agenda is as follows:

(1) Opening Remarks by the Designated Federal Officer (CAPT Woodring) and Committee Chair (Mrs. Tava Foret).

(2) Approval of May 25, 2010 minutes.

(3) Old Business (receipt and discussion of the following reports).

(a) Navigation Operations (NAVOPS) subcommittee report;

(b) Dredging subcommittee report;

(c) Technology subcommittee report;

(d) Waterways Safety and Utilization subcommittee report;

(e) Commercial Recovery Contingency (CRC) subcommittee report;

(f) HOGANSAC Outreach subcommittee report;

(g) Freeport working group report;

(h) Area Maritime Security Committee (AMSC) Liaison's report.

(4) New Business.

(a) Discussion on 2011 AMSC/HSC Conference in Houston.

(5) Announcements.

(a) Schedule Next Meetings.

Agenda of the Working Groups Meeting

The agenda for the working groups meeting is as follows:

(1) Presentation by each working group of its work product and progress;

(2) Review and discuss the work completed by each working group, including any potential conflicts or commonalities in action items to be included in reports to the Committee.

The minutes, which will be discussed by the Committee, may be viewed in our online docket. Go to http://www.regulations.gov, enter the docket number for this notice (USCG-2010-0656) in the “Keyword” box and then click “Search.”

Procedural

All meetings are open to the public. Please note that meetings may close early if all business is finished. At the Chair's discretion, members of the public may make oral presentations during the meetings. If you would like to make an oral presentation at the Committee meeting, please notify the ADFO no later than September 8, 2010. Written material for distribution at a meeting should reach the Coast Guard no later than September 8, 2010. If you would like a copy of your material distributed to each member of the Committee in advance of the meetings, please submit 19 copies to the Coast Guard no later than September 8, 2010.

Information on Service for Individuals With Disabilities

For information on facilities or services for individuals with disabilities or to request special assistance at the public meeting, contact Lieutenant Junior Grade Margaret Brown at the telephone number or e-mail address indicated under the FOR FURTHER INFORMATION CONTACT section of this notice.

Dated: July 26, 2010.
M.E. Woodring,
Captain, U.S. Coast Guard, Commander, Sector Houston-Galveston.

[FR Doc. 2010-20631 Filed 8-19-10; 8:45 am]

BILLING CODE 9110-04-P